DEPARTMENT OF HEALTH AND HUMAN SERVICES

Food and Drug Administration

[Docket No. 2004N-0246]

Agency Emergency Processing Under Office of Management and Budget Review; Experimental Study of Petitioned Health Claims on Glucosamine and Chondroitin Sulfate; Withdrawal

AGENCY: Food and Drug Administration, HHS.

ACTION: Notice; withdrawal.

SUMMARY: The Food and Drug Administration (FDA) is withdrawing a notice that published in the Federal Register of June 3, 2004 (69 FR 31395).

DATES: This notice is withdrawn on August 5, 2004.

FOR FURTHER INFORMATION CONTACT: May D. Nelson, Center for Food Safety and Applied Nutrition (HFS-024), Food and Drug Administration, 5100 Paint Branch Pkwy., College Park, MD 20740, 301-436-1722.

SUPPLEMENTARY INFORMATION: In the Federal Register of June 3, 2004, FDA published a notice informing interested parties that the proposed collection of information entitled “Experimental Study of Petitioned Health Claims on Glucosamine and Chondroitin Sulfate” had been submitted to the Office of Management and Budget (OMB) for emergency processing under section 3507(j) of the Paperwork Reduction Act of 1995 (44 U.S.C. 3507(j) and 5 CFR 1320.13). The notice contains a number of errors. In addition, we are reevaluating the design and objective of the study. Therefore, we are withdrawing both the notice itself and the request for OMB approval of the proposed collection of information.

Dated: July 29, 2004.
William K. Hubbard,
Associate Commissioner for Policy and Planning.

[FR Doc. 04-17877 Filed 8-4-04; 8:45 am]

BILLING CODE 4160-01-S